BUREAU OF CONSUMER FINANCIAL PROTECTION

Agency Information Collection Activities: Submission for OMB Review; Comment Request

AGENCY: Bureau of Consumer Financial Protection.

ACTION: Notice and request for comment.

SUMMARY: The Bureau of Consumer Financial Protection (Bureau), as part of its continuing effort to reduce paperwork and respondent burden, invites the general public and other Federal agencies to take this opportunity to comment on a proposed information collection, as required by the Paperwork Reduction Act of 1995. The Bureau is soliciting comments concerning its proposed information collection titled, “Clearance for Consumer Attitudes, Understanding, and Behaviors with Respect to Financial Services and Products.” The proposed collection has been submitted to the Office of Management and Budget (OMB) for review and approval. A copy of the submission, including copies of the proposed collection and supporting documentation, may be obtained by contacting the agency contact listed below.

DATES: Written comments are encouraged and must be received on or before January 28, 2013 to be assured of consideration.

ADDRESSES: You may submit comments, identified by agency name and “Clearance for Consumer Attitudes, Understanding, and Behaviors with Respect to Financial Services and Products” to:

• Agency: Consumer Financial Protection Bureau (Attention: PRA Office), 1700 G Street NW., Washington, DC 20552; (202) 435-9011; and CFPB_Public_PRA@cfpb.gov.

• OMB: Shagufta Ahmed, Office of Management and Budget, New Executive Office Building, Room 10235, Washington, DC 20503; (202) 395-7873.

FOR FURTHER INFORMATION CONTACT: Requests for additional information should be directed to Consumer Financial Protection Bureau (Attention: PRA Office), 1700 G Street NW., Washington, DC 20552, (202) 435-9011, or through the Internet at CFPB_Public_PRA@cfpb.gov.

SUPPLEMENTARY INFORMATION: Title: Clearance for Consumer Attitudes, Understanding, and Behaviors with Respect to Financial Services and Products.

OMB Control Number: 3170-XXXX.

Type of Review: New.

Abstract: This proposed information collection will help the Consumer Financial Protection Bureau (CFPB) establish a public opinion survey to measure and track consumer attitudes, beliefs, and behaviors as they navigate financial decisions. It will help the CFPB target its efforts and those of its partners to those areas that will have the most impact on both consumers and financial markets.

Affected Public: Individuals and Households.

Estimated Number of Responses: 2,500.

Estimated Time per Respondent: 20 minutes.

Estimated Total Annual Burden Hours: 833.

An agency may not conduct or sponsor, and a respondent is not required to respond to, an information collection unless the information collection displays a currently valid OMB control number.

The Bureau issued a 60-day Federal Register notice on March 28, 2012 (77 FR 18795). Comments were solicited and continue to be invited on: (a) Whether the collection of information is necessary for the proper performance of the functions of the Bureau, including whether the information shall have practical utility; (b) the accuracy of the Bureau's estimate of the burden of the collection of information, including the validity of the methodology and the assumptions used; (c) ways to enhance the quality, utility, and clarity of the information to be collected; and (d) ways to minimize the burden of the collection of information on respondents, including through the use of automated collection techniques or other forms of information technology.

Dated: December 17, 2012.
Chris Willey,
Chief Information Officer, Bureau of Consumer Financial Protection.

[FR Doc. 2012-31138 Filed 12-26-12; 8:45 am]

BILLING CODE 4810-AM-P